DEPARTMENT OF DEFENSE

GENERAL SERVICES ADMINISTRATION

NATIONAL AERONAUTICS AND SPACE ADMINISTRATION

48 CFR Parts 1, 4, 9, 23, and 52

[FAR Case 2021-015, Docket No. FAR-2021-0015, Sequence No. 1]

RIN 9000-AO32

Federal Acquisition Regulation: Disclosure of Greenhouse Gas Emissions and Climate-Related Financial Risk

AGENCY: Department of Defense (DoD), General Services Administration (GSA), and National Aeronautics and Space Administration (NASA).

ACTION: Proposed rule; withdrawal.

SUMMARY: DoD, GSA, and NASA are withdrawing the proposed rule to amend the Federal Acquisition Regulation (FAR) titled: Disclosure of Greenhouse Gas Emissions and Climate-Related Financial Risk. Executive Order 14030, directed the Federal Acquisition Regulatory Council to consider amending the Federal Acquisition Regulation (FAR) require major Federal suppliers to publicly disclose greenhouse gas emissions and climate-related financial risk and to set science-based reduction targets. A proposed rule was published on November 14, 2022. The agencies lack sufficient time during the Biden-Harris Administration to finalize the proposal. In addition, the agencies' analysis of public comments indicates an evolving practices and standards in industry, and an evolving domestic and international regulatory landscape. Accordingly, this proposed rule is withdrawn, and the FAR case is closed.

DATES: The proposed rule published on November 14, 2022, at 87 FR 68312 is withdrawn as of January 13, 2025.

ADDRESSES: farpolicy@gsa.gov.

FOR FURTHER INFORMATION CONTACT: Ms. Jennifer Hawes, Procurement Analyst, at 202-255-9194 or by email at jennifer.hawes@gsa.gov. Please cite “FAR Case 2021-015”.

SUPPLEMENTARY INFORMATION: On November 12, 2022, DoD, GSA, and NASA proposed to amend the FAR to implement section 5(b)(i) of Executive Order (E.O.) 14030, Climate-Related Financial Risk, to consider requiring major Federal suppliers to publicly disclose greenhouse gas (GHG) emissions and climate-related financial risk and to set science-based reduction targets. The agencies lack sufficient time during the Biden-Harris Administration, however, to finalize the proposal, particulalry given the large volume of public comments and the policy issues they raised. The agencies' overall analysis of public comments indicates evolving practices and use of standards in industry, and since the publication of the proposed rule, differing domestic and international regulations covering greenhouse gas disclosures have been created. The FAR Council will continue to monitor recommendations from stakeholders on industry practice, both voluntary and under other requirements, to inform any future efforts in anticipation of continued movement towards more uniform use of standards. Accordingly, the proposed rule published at 87 FR 68312 on November 14, 2022, is withdrawn and FAR Case 2021-015 is closed.

List of Subjects in 48 CFR Parts 1, 4, 9, 23, and 52

Government procurement.

William F. Clark,
Director, Office of Government-wide Acquisition Policy, Office of Acquisition Policy, Office of Government-wide Policy.

[FR Doc. 2024-30621 Filed 1-10-25; 8:45 am]

BILLING CODE 6820-EP-P